Title 3—

The President

Proclamation 9720 of April 3, 2018

50th Anniversary of the Assassination of Dr. Martin Luther King, Jr.

By the President of the United States of America

A Proclamation

Fifty years ago today, on April 4, 1968, the Reverend Dr. Martin Luther King, Jr., was tragically assassinated in Memphis, Tennessee. Though he was taken from this earth unjustly, he left us with his legacy of justice and peace. In remembrance of his profound and inspirational virtues, we look to do as Dr. King did while this world was privileged enough to still have him. We must learn to live together as brothers and sisters lest we perish together as fools. We must embrace the sanctity of life and love our neighbor as we love ourselves. As a united people, we must see Dr. King's life mission through and denounce racism, inhumanity, and all those things that seek to divide us.

It is not government that will achieve Dr. King's ideals, but rather the people of this great country who will see to it that our Nation represents all that is good and true, and embodies unity, peace, and justice. We must actively aspire to secure the dream of living together as one people with a common purpose. President Abraham Lincoln sought to eradicate the senseless divisions of racial hierarchies when he issued the Emancipation Proclamation. Just over 100 years later, Dr. King continued this effort and called upon Americans to reject ugly impulses and prejudices, and to recognize the beauty and the humanity of all people, regardless of the color of their skin. Today, we remain steadfast in advancing their efforts, in hopes of hastening the day when all of God's children will join hands in freedom forever.

NOW, THEREFORE, I, DONALD J. TRUMP, President of the United States of America, by virtue of the authority vested in me by the Constitution and the laws of the United States, do hereby proclaim April 4, 2018, to be a day to honor Dr. King's legacy. I urge all Americans to do their part to make Dr. King's dreams of peace, unity, and justice a reality.

IN WITNESS WHEREOF, I have hereunto set my hand this third day of April, in the year of our Lord two thousand eighteen, and of the Independence of the United States of America the two hundred and forty-second.

[FR Doc. 2018-07253

Filed 4-5-18; 11:15 am]

Billing code 3295-F8-P